DEPARTMENT OF COMMERCE

National Oceanic and Atmospheric Administration

RIN 0648-XA713

Endangered Species; File No. 16547-01

AGENCY: National Marine Fisheries Service (NMFS), National Oceanic and Atmospheric Administration (NOAA), Commerce.

ACTION: Notice; receipt of application for a permit modification.

SUMMARY: Notice is hereby given that the United States Fish and Wildlife Service, 11110 Kimages Road; Charles City, Virginia 23030 [Albert Spells: Responsible Party], has requested a modification to scientific research Permit No. 16547 authorizing scientific research on endangered Atlantic sturgeon.

DATES: Written, telefaxed, or email comments must be received on or before January 7, 2013.

ADDRESSES: The modification request and related documents are available for review by selecting “Records Open for Public Comment” from the Features box on the Applications and Permits for Protected Species (APPS) home page, https://apps.nmfs.noaa.gov/, and then selecting File No. 16547-01 from the list of available applications. These documents are also available upon written request or by appointment in the following offices:

Permits and Conservation Division, Office of Protected Resources, NMFS, 1315 East-West Highway, Room 13705, Silver Spring, MD 20910; phone (301) 427-8401; fax (301) 713-0376; and

Northeast Region, NMFS, 55 Great Republic Drive, Gloucester, MA 01930; phone (978) 281-9328; fax (978) 281-9394.

Written comments on this application should be submitted to the Chief, Permits, and Conservation Division, at the address listed above. Comments may also be submitted by facsimile to (301) 713-0376, or by email to NMFS.Pr1Comments@noaa.gov. Please include the File No. in the subject line of the email comment.

Those individuals requesting a public hearing should submit a written request to the Chief, Permits and Conservation Division at the address listed above. The request should set forth the specific reasons why a hearing on the application(s) would be appropriate.

FOR FURTHER INFORMATION CONTACT: Malcolm Mohead or Colette Cairns, (301) 427-8401.

SUPPLEMENTARY INFORMATION: The subject modification to Permit No. 16547, issued on April 11, 2012 (77 FR 21754), is requested under the authority of the Endangered Species Act of 1973, as amended (16 U.S.C. 1531 et seq.) and the regulations governing the taking, importing, and exporting of endangered and threatened species (50 CFR parts 222-226).

Permit No. 16547 currently authorizes the permit holder to: Evaluate the abundance of Atlantic sturgeon within the Chesapeake Distinct Population Segment (DPS); including the Chesapeake Bay and its tributaries above and below 22 parts per thousand salinity. Researchers are currently authorized to capture adult, juvenile and early life stages (ELS) of Atlantic sturgeon using gill nets, trawls, fyke nets, trammel nets, pound nets and egg mats; and to measure, weigh, tissue sample, PIT and Floy tag appropriately sized animals. A subset can be tagged either externally or internally with telemetry tags dependent on the life stage (adult, sub-adult and juvenile) and the salinity level where captured; or also externally satellite tagged. The permit holder now requests authorization to: Telemetry tag adult or juvenile Atlantic sturgeon with either internal or external telemetry tags without respect to salinity level of the Chesapeake Bay and tributaries in the borders of Virginia and Maryland. The numbers of adult and sub-adult Atlantic sturgeon taken would be reduced from 425 to 350 per year, while numbers of juvenile Atlantic sturgeon taken would be reduced from 175 to 125 annually. However, there would be an option added to internally telemetry tag 50 juvenile Atlantic sturgeon; and the numbers of ELS would also be increased from 25 to 50 annually while using a film crew to document the activity. The modification would be valid until the permit expires on April 5, 2017.

Dated: November 30, 2012.
P. Michael Payne,
Chief, Permits and Conservation Division, Office of Protected Resources, National Marine Fisheries Service.

[FR Doc. 2012-29522 Filed 12-6-12; 8:45 am]

BILLING CODE 3510-22-P